DEPARTMENT OF COMMERCE

National Oceanic and Atmospheric Administration

RIN 0648-XO60

Magnuson-Stevens Act Provisions; General Provisions for Domestic Fisheries; Application for Exempted Fishing Permits

AGENCY: National Marine Fisheries Service (NMFS), National Oceanic and Atmospheric Administration (NOAA), Commerce.

ACTION: Notification of a proposal to conduct exempted fishing; request for comments.

SUMMARY: The Assistant Regional Administrator for Sustainable Fisheries, Northeast Region, NMFS (Assistant Regional Administrator), has made a preliminary determination that the subject exempted fishing permit (EFP) application submitted by Coonamessett Farm, which would exempt Atlantic sea scallop (scallop) vessels participating in a modified scallop dredge twine top (twine top) study from minimum twine top mesh sizes, Closed Area I Access Area (CAI) and Closed Area II Access Area (CAII) scallop vessel trip restrictions, and fish possession restrictions, should be issued for public comment. Although the Assistant Regional Administrator has not made a preliminary determination that the activities authorized under the EFP would be consistent with the goals and objectives of the Atlantic Sea Scallop Fishery Management Plan (FMP), NMFS seeks public comment on the exemptions the EFP is requesting. Further review and consultation may be necessary before a final determination is made.

DATES: Comments must be received on or before May 14, 2009.

ADDRESSES: Comments may be submitted by e-mail to DA9-039@noaa.gov. Include in the subject line of the e-mail comment the following document identifier: “Comments on dredge twine top EFP.” Written comments should be sent to Patricia A. Kurkul, Regional Administrator, NMFS, Northeast Regional Office, 55 Great Republic Drive, Gloucester, MA 01930. Mark the outside of the envelope, “Comments on dredge twine top EFP.” Comments may also be sent via facsimile (fax) to (978) 281-9135.

FOR FURTHER INFORMATION CONTACT: Don Frei, Fisheries Management Specialist, phone: 978-281-9221, fax: 978-281-9135.

SUPPLEMENTARY INFORMATION: Coonamessett Farm submitted this EFP application for research activities that would assess a modified scallop dredge twine top (twine top) designed to reduce finfish bycatch while improving the retention of scallops. The subject EFP would exempt vessels from the following regulations: Ten-inch (25.4-cm) minimum twine top mesh size specified at 50 CFR 648.51(b)(2); CAI and CA II scallop vessel trip restrictions specified at § 648.81(a)(1)(vi) and (b)(1)(v); and exemptions from scallop, Northeast multispecies, monkfish, summer flounder, black sea bass, scup, spiny dogfish, and skate possession restrictions specified throughout 50 CFR part 648.

The applicant states that previous twine top selectivity research found that the aft portion of the twine top is where most scallop escapement occurs, and the forward portion of the twine top is where most finfish escapement occurs. The applicant postulates, that by decreasing the mesh size to 6 inches (15.2 cm) in the aft portion of the twine top while increasing the mesh size to 12 in (30.5 cm) in the forward portion of the twine top, both scallop retention and finfish escapement would increase. The experimental twine top would also have a lower hanging ratio than that of a traditionally hung twine top, with the hypothesis that this may further reduce finfish bycatch.

The applicant states that, to effectively test the modified twine top, field trials must occur in areas of high finfish bycatch such as those found in the scallop Access Areas CAI and CAII. However, the CAI Access Area is closed to scallop fishing for the 2009 fishing year (March 1, 2009—February 28, 2010). The applicant requests up to three 7-day trips between May and June of 2009, in the Access Areas CAI and/or CAII, when the access areas are closed to scallop fishing. On these trips, the applicant would compare identical dredge frames fitted with a standard twine top and a modified twine top. All scallops and finfish caught during these trips would be processed to obtain morphological data and then returned to the sea as soon as possible.

In addition to testing the twine top in CAI and CAII, the applicant requests authorization to test the modified twine top on up to three fishing trips to the Delmarva Scallop Access Area (DELMARVA) and/or Elephant Trunk Access Area (ETAA). Both the DELMARVA and ETAA are open to scallop fishing in the 2009 fishing year.

Exemption from scallop, Northeast multispecies, monkfish, summer flounder, black sea bass, scup, spiny dogfish, and skate possession restrictions would authorize project investigators to temporarily possess finfish for scientific data collection purposes prior to returning all finfish to the sea.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: April 24, 2009.
Kristen C. Koch,
Acting Director, Office of Sustainable Fisheries, National Marine Fisheries Service.

[FR Doc. E9-9816 Filed 4-28-09; 8:45 am]

BILLING CODE 3510-22-S